DEPARTMENT OF ENERGY

Federal Energy Regulatory Commission

Combined Notice of Filings #1

Take notice that the Commission received the following electric rate filings:

Docket Numbers: ER10-2126-005; EL19-87-000.

Applicants: Idaho Power Company.

Description: Response to September 19, 2019 Show Cause Order of Idaho Power Company.

Filed Date: 11/18/19.

Accession Number: 20191118-5189.

Comments Due: 5 p.m. ET 12/9/19.

Docket Numbers: ER10-2579-004.

Applicants: NorthPoint Energy Solutions, Inc.

Description: Notification of Non-Material Change in Status of NorthPoint Energy Solutions, Inc.

Filed Date: 11/19/19.

Accession Number: 20191119-5072.

Comments Due: 5 p.m. ET 12/10/19.

Docket Numbers: ER17-1198-003.

Applicants: Ameren Illinois Company.

Description: Compliance Filing to Order on Rehearing of Ameren Illinois Company.

Filed Date: 11/18/19.

Accession Number: 20191118-5203.

Comments Due: 5 p.m. ET 12/9/19.

Docket Numbers: ER19-420-001.

Applicants: Mendota Hills, LLC.

Description: Report Filing: Refund Report Filing to be effective N/A.

Filed Date: 11/19/19.

Accession Number: 20191119-5105.

Comments Due: 5 p.m. ET 12/10/19.

Docket Numbers: ER19-2619-002.

Applicants: Midcontinent Independent System Operator, Inc.

Description: Tariff Amendment: 2019-11-19_Amendment to Fast Automatic Generation Control Signals to be effective 10/15/2019.

Filed Date: 11/19/19.

Accession Number: 20191119-5103.

Comments Due: 5 p.m. ET 12/3/19.

Docket Numbers: ER19-2905-001.

Applicants: Southern California Edison Company.

Description: Tariff Amendment: Correction to Tariff Record—Service Agreement No. 1092 ORNI 34 LLC to be effective 10/1/2019.

Filed Date: 11/19/19.

Accession Number: 20191119-5096.

Comments Due: 5 p.m. ET 12/10/19.

Docket Numbers: ER20-242-001.

Applicants: Sunshine Valley Solar, LLC.

Description: Tariff Amendment: Supplement to Petition for Market-Based Rate Tariff to be effective 10/31/2019.

Filed Date: 11/19/19.

Accession Number: 20191119-5095.

Comments Due: 5 p.m. ET 12/10/19.

Docket Numbers: ER20-245-001.

Applicants: Sun Streams, LLC.

Description: Tariff Amendment: Supplement to Petition for Market-Based Rate Tariff to be effective 10/31/2019.

Filed Date: 11/19/19.

Accession Number: 20191119-5094.

Comments Due: 5 p.m. ET 12/10/19.

Docket Numbers: ER20-246-001.

Applicants: Windhub Solar A, LLC.

Description: Tariff Amendment: Supplement to Petition for Market-Based Rate Tariff to be effective 10/31/2019.

Filed Date: 11/19/19.

Accession Number: 20191119-5097.

Comments Due: 5 p.m. ET 12/10/19.

Docket Numbers: ER20-399-000.

Applicants: Rhode Island Engine Genco, LLC.

Description: Compliance filing: Notice of Non-Material Change in Status, Seller Status and Revised MBR to be effective 11/20/2019.

Filed Date: 11/19/19.

Accession Number: 20191119-5049.

Comments Due: 5 p.m. ET 12/10/19.

Docket Numbers: ER20-400-000.

Applicants: Rhode Island LFG Genco, LLC.

Description: § 205(d) Rate Filing: Notice of Non-Material Change in Status, Seller Status and Revised MBR to be effective 11/20/2019.

Filed Date: 11/19/19.

Accession Number: 20191119-5050.

Comments Due: 5 p.m. ET 12/10/19.

Docket Numbers: ER20-401-000.

Applicants: PJM Interconnection, L.L.C.

Description: Tariff Cancellation: Metadata Correction for Six Interim ISAs and Three WMPAs to be effective 1/16/2012.

Filed Date: 11/19/19.

Accession Number: 20191119-5051.

Comments Due: 5 p.m. ET 12/10/19.

Docket Numbers: ER20-402-000.

Applicants: Southwest Power Pool, Inc.

Description: § 205(d) Rate Filing: 2852R1 Energy Authority/Evergy Kansas Central Meter Agent Ag to be effective 11/1/2019.

Filed Date: 11/19/19.

Accession Number: 20191119-5053.

Comments Due: 5 p.m. ET 12/10/19.

Docket Numbers: ER20-403-000.

Applicants: Southwest Power Pool, Inc.

Description: § 205(d) Rate Filing: 2802R1 AECC and Evergy Kansas Central Meter Agent Agreement to be effective 11/1/2019.

Filed Date: 11/19/19.

Accession Number: 20191119-5067.

Comments Due: 5 p.m. ET 12/10/19.

Docket Numbers: ER20-404-000.

Applicants: Northern Indiana Public Service Company.

Description: § 205(d) Rate Filing: Filing of a New Delivery Point to be effective 11/28/2019.

Filed Date: 11/19/19.

Accession Number: 20191119-5093.

Comments Due: 5 p.m. ET 12/10/19.

Docket Numbers: ER20-405-000.

Applicants: Golden Spread Electric Cooperative, Inc.

Description: § 205(d) Rate Filing: Amended and Restated WPC—Ex A and D to be effective 1/1/2020.

Filed Date: 11/19/19.

Accession Number: 20191119-5108.

Comments Due: 5 p.m. ET 12/10/19.

Docket Numbers: ER20-406-000.

Applicants: MRP Generation Holdings, LLC.

Description: § 205(d) Rate Filing: Normal 2019 to be effective 11/20/2019.

Filed Date: 11/19/19.

Accession Number: 20191119-5114.

Comments Due: 5 p.m. ET 12/10/19.

Docket Numbers: ER20-407-000.

Applicants: Alabama Power Company.

Description: § 205(d) Rate Filing: Pinewood Solar LGIA Filing to be effective 11/12/2019.

Filed Date: 11/19/19.

Accession Number: 20191119-5115.

Comments Due: 5 p.m. ET 12/10/19.

Docket Numbers: ER20-408-000.

Applicants: CalPeak Power LLC.

Description: § 205(d) Rate Filing: Normal 2019 to be effective 11/20/2019.

Filed Date: 11/19/19.

Accession Number: 20191119-5118.

Comments Due: 5 p.m. ET 12/10/19.

Docket Numbers: ER20-409-000.

Applicants: CalPeak Power—Border LLC.

Description: § 205(d) Rate Filing: Normal 2019 to be effective 11/20/2019.

Filed Date: 11/19/19.

Accession Number: 20191119-5119.

Comments Due: 5 p.m. ET 12/10/19.

Docket Numbers: ER20-410-000.

Applicants: High Desert Power Project, LLC.

Description: § 205(d) Rate Filing: Normal 2019 to be effective 11/20/2019.

Filed Date: 11/19/19.

Accession Number: 20191119-5120.

Comments Due: 5 p.m. ET 12/10/19.

Docket Numbers: ER20-411-000.

Applicants: Malaga Power, LLC.

Description: § 205(d) Rate Filing: Normal 2019 to be effective 11/20/2019.

Filed Date: 11/19/19.

Accession Number: 20191119-5121.

Comments Due: 5 p.m. ET 12/10/19.

Docket Numbers: ER20-412-000.

Applicants: Midway Peaking, LLC.

Description: § 205(d) Rate Filing: Normal 2019 to be effective 11/20/2019.

Filed Date: 11/19/19.

Accession Number: 20191119-5122.

Comments Due: 5 p.m. ET 12/10/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 19, 2019.
Nathaniel J. Davis, Sr.,
Deputy Secretary.

[FR Doc. 2019-25524 Filed 11-22-19; 8:45 am]

BILLING CODE 6717-01-P